DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. As designee of the Secretary, we have granted or partially granted the requests for modification listed below. In some instances, the decisions are conditioned upon compliance with stipulations stated in the decision. The term FR Notice appears in the list of affirmative decisions below. The term refers to the Federal Register volume and page where we published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia, this 30th day of September 2005.
Rebecca J. Smith,
Acting Director, Office of Standards, Regulations, and Variances.

Affirmative Decisions on Petitions for Modification

Docket No.: M-2004-045-C.

FR Notice: 69 FR 64110.

Petitioner: Consolidation Coal Company.

Regulation Affected: 30 CFR 75.364(b).

Summary of Findings: Petitioner's proposal is to establish checkpoint numbers B-CK-10, B-CK-11, B-CK-12, and B-CK-13 to measure the quantity and quality of air in certain areas of the return aircourse due to deteriorating roof conditions. The petitioner proposes to maintain the checkpoints in a safe condition at all times; have a certified person test for methane and the quantity and quality of air at each checkpoint on a weekly basis; and place his/her initials and date in a record book kept on the surface of the mine and on a date board at the checkpoint sites. This is considered an acceptable alternative method for the Blacksville No. 2 Mine. The petition for modification is granted for the examination of approximately 1,200 feet of unsafe-to-travel return aircourse, from the regulator inby the 1½ East Seals over the overcasts of Wana Mains to Wana Air Shaft for the Blacksville No. 2 Mine with conditions.

Docket No.: M-2004-052-C.

FR Notice: 69 FR 78047.

Petitioner: Cumberland Coal Resources, LP.

Regulation Affected: 30 CFR 75.364(b)(1).

Summary of Findings: Petitioner's proposal is to establish air monitoring stations at a sump in an intake airway in lieu of traveling the entry in its entirety because of a water collection sump that was constructed in the intake aircourse and is approximately 15 to 20 feet deep and 600 feet in length, known as the No. 7 Main Sump, located between crosscuts 46 and 51 in the No. 5 entry of the East Mains. The air course is isolated by stoppings and is subject to weekly examinations under 30 CFR 75.364(b)(1), and the roof and ribs in the sump area have been supported with supplemental support. The petitioner proposes to establish evaluation points at the 47 and 51 crosscuts. This is considered an acceptable alternative method for the Cumberland Mine. The petition for modification is granted for evaluation of the intake aircourse segment (approximately 600 feet) known as the No. 7 Main Sump Area for the Cumberland Mine with conditions.

Docket No.: M-2005-001-C.

FR Notice: 70 FR 3566.

Petitioner: Consol Pennsylvania Coal Company.

Regulation Affected: 30 CFR 75.364(b)(2).

Summary of Findings: Petitioner's proposal is to establish monitoring stations MS #1, MS #2, and MS #3 in the affected area of the aircourse and have a certain person examine the stations on a weekly basis to determine the quantity and quality of air entering and exiting the stations. The petitioner proposes to measure the air quality using an MSHA approved hand-held methane and oxygen meter, and the examiner will record their initials, the date, and time of examinations on a date board maintained at each monitoring station and in a book kept on the surface. This is considered an acceptable alternative method for the Enlow Fork Mine. The petition for modification is granted for the examination of approximately 1,200 feet of unsafe-to-travel return aircourse from the 1 West No. 1 Seal to two crosscuts inby the Portal Shaft bottom for the Enlow Fork Mine with conditions.

Docket No.: M-2005-020-C.

FR Notice: 70 FR 19506.

Petitioner: Chestnut Coal Company.

Regulation Affected: 75.311(b)(2).

Summary of Findings: Petitioner's proposal is that electrical circuits entering the underground mine remain energized to the mine's de-watering pumps while the mine ventilation fan is intentionally stopped during idle shifts while no miners are underground. The petitioner alleges that anthracite mines are small, employing five or fewer miners, with very low production; that there is little or no methane liberation; and that due to the steep pitch of the coal seam, natural ventilation occurs through cracks and breaches to the surface, which would dissipate any methane. The petitioner further alleges that continuous operation of the main fan would result in a hazardous condition during colder months due to water freezing in the intake haulage slope, creating ice accumulations that must be manually removed. By allowing the fan to be intentionally stopped, the natural air current will be warmed and prevent freezing. The mine's pumping system typically consists of a submersible pump located below the water level in the intake haulage slope sump and a centrifugal pump located in the intake haulage slope above the active gangway level. The pumps are started and shut off by a set of electrode switches located in the sump that detects the water level. This is considered an acceptable alternative method for the No. 10 Slope Mine. The petition for modification is granted to permit the electrical circuits entering the underground mine to remain energized to the mine's de-watering pumps while the mine ventilation fan is intentionally stopped during idle shifts when no miners are underground for the No. 10 Slope Mine with conditions.

Docket No.: M-2005-021-C.

FR Notice: 70 FR 19506.

Petitioner: Six M Coal Company.

Regulation Affected: 75.335(a)(1).

Summary of Findings: Petitioner's proposal is to construct seals from wooden materials of moderate size and weight that would be designed to withstand a static horizontal pressure in the range of 10 psi, and install a sampling tube only in the monkey (higher elevation) seal. The petitioner asserts that because of the pitch of anthracite veins, concrete blocks are difficult to use and expose miners to safety hazards during transport. The petitioner cites the low level of explosibility of anthracite coal dust and the minimal potential for either an accumulation of methane in previously mined pitching veins or an ignition source in the gob area as justification for the proposed design criterion. This is considered an acceptable alternative method for the No. 1 Slope Mine. The petition for modification is granted for seals installed in the No. 1 Slope Mine with conditions.

Docket No.: M-2005-022-C.

FR Notice: 70 FR 19506.

Petitioner: Consolidation Coal Company.

Regulation Affected: 30 CFR 75.503 [18.35 of Part 18].

Summary of Findings: Petitioner's proposal is to use trailing cables with a maximum length 1,000 feet for supplying power to permissible equipment used in the continuous mining section of the Blacksville No. 2 Mine. This is considered an acceptable alternative method for the Blacksville No. 2 Mine. The petition for modification is granted for the trailing cables supplying three-phase, 995-volt power to continuous mining machines and trailing cables supplying three-phase, 575-volt power to loading machines, shuttle cars, roof bolters, section ventilation fans, and de-gas drills for the Blacksville No. 2 Mine with conditions.

Docket No.: M-2005-029-C.

FR Notice: 70 FR 22376.

Petitioner: Parkwood Resources, Inc.

Regulation Affected: 30 CFR 75.1100-2(e)(2).

Summary of Findings: Petitioner's proposal is to use two (2) fire extinguishers or one fire extinguisher of twice the required capacity at all temporary electrical installations in lieu of using one fire extinguisher and 240 pounds of rock dust. This is considered an acceptable alternative method for the Cherry Tree Mine. The petition for modification is granted for temporary electrical installations, provided the Petitioner maintains two portable fire extinguishers having at least the minimum capacity specified for a portable fire extinguisher in 30 CFR 75.1100-1(e) at each of the temporary electrical installations at the Cherry Tree Mine with conditions.

Docket No.: M-2005-036-C.

FR Notice: 70 CFR 32379.

Petitioner: Hopkins County Coal, LLC.

Regulation Affected: 30 CFR 75.1101-1(b).

Summary of Findings: Petitioner's proposal is to use an alternative method of compliance in lieu of providing blow-off dust covers for deluge-type water spray nozzles. The petitioner proposes to have a certified person trained in specific testing procedures to the deluge-type water pray fire suppression systems at each belt drive conduct a visual examination of each deluge-type water spray fire-suppression system; conduct a functional test of the deluge-type water spray fire suppression systems to check for proper performance, and record the results of the examination in a book that will be kept on the surface and made available to the authorized representative of the Secretary. This is considered an acceptable alternative method for the Elk Creek Mine. The petition for modification is granted for the deluge-type water spray systems installed for nozzles in the Elk Creek Mine with conditions.

Docket No.: M-2005-037-C.

FR Notice: 70 FR 32379.

Petitioner: Bridger Coal Company.

Regulation Affected: 30 CFR 75.1101-8.

Summary of Findings: Petitioner's proposal is to use a water sprinkler system that will consist of a single overhead pipe system with automatic sprinklers located no more than 10 feet apart so that the water discharged from the sprinklers will cover 50 feet of fire-resistant belt, or 150 feet of nonfire-resistant belt, adjacent to the belt drive. The petitioner proposes to have the sprinkler located not more than 10 feet apart so that the water discharged from the sprinkler(s) will cover the drive motor(s), belt take-up, electrical controls, and gear reducing unit for each belt drive, and the sprinkler system will use either pendant or upright type sprinkler heads. This is considered an acceptable alternative method for the Bridger Underground Mine. The petition for modification is granted for the Bridger Underground Mine with conditions.

Docket No.: M-2005-038-C.

FR Notice: 70 FR 32379.

Petitioner: Alfred Brown Coal Company.

Regulation Affected: 30 CFR 75.1100-2(a)(2).

Summary of Findings: Petitioner's proposal is to use two (2) portable fire extinguishers near the slope bottom and an additional portable fire extinguisher within 500 feet of the working face for equivalent fire protection at the 7 Ft. Slope Mine. This is considered an acceptable alternative method for the 7 Ft. Slope Mine. The petition for modification is granted for firefighting equipment in the working section for the 7 Ft. Slope Mine with conditions.

[FR Doc. 05-20081 Filed 10-5-05; 8:45 am]

BILLING CODE 4510-43-P